DEPARTMENT OF HEALTH AND HUMAN SERVICES

Substance Abuse and Mental Health Services Administration

Agency Information Collection Activities: Submission for OMB Review; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: 2021 Behavioral Health Workforce Surveys, Part of the Mental and Substance Use Disorder Practitioner Data Grant Funded by SAMHSA, Grant Number H79FG000028

SAMHSA is requesting from the Office of Management and Budget (OMB) approval to administer two surveys being developed as part of the Mental and Substance Use Disorder Practitioner Data grant: (1) A one-time survey to employers of behavioral health providers and, (2) a one-time survey of licensed clinical behavioral health providers. The information gathered by these surveys will be used to gain critical new insights into, and to document, challenges in recruiting and retaining behavioral health staffing and to assess the strength of available data on the clinical behavioral health workforce actively providing care for mental health and substance use disorders.

Employer Survey

The survey includes questions to assess the following measures: Facility type (e.g., outpatient facility, inpatient, residential); type of behavioral health staff employed (e.g., addiction medicine specialists, psychiatric Nurse Practitioners, marriage and family therapists); services offered (e.g., assertive community treatment, partial hospitalization); roles and training needs of peer support specialists, case managers, care managers, and pharmacists (e.g., certification, population served, paid status, reimbursement); professions with recruitment and retention challenges (e.g., select from list of professions); reasons behind the challenges (e.g., low wages, high case load) and work-arounds (e.g., use of locum tenens); average wait-time for appointments (e.g., new patient visits); staffing needed to address gaps in care (e.g., estimated FTEs needed by profession type); use of telehealth (e.g., percent of visits); patient mix (e.g., immigrants, LGBTQ communities, number of clients); and form of payment (e.g., percent commercial, Medicaid, self-pay). The survey will be administered online through Qualtrics.

The target population will be the 2,800 member organizations of the National Council of Behavioral Health (NCBH). NCBH members are healthcare organizations and management entities that offer treatment and supports to more than eight million adults and children living with mental illnesses and addictions.

Provider Survey

The survey will help identify how many licensed clinical behavioral health specialists (licensed psychologists, licensed clinical social workers, licensed marriage and family therapists, and licensed professional counselors) are seeing clients for behavioral health needs and the populations served. The survey includes questions to assess the following measures: Demographics (e.g., age, race/ethnicity, sex); professional and practice setting (e.g., self-employed, outpatient mental health clinic, zip code, hours worked); level of education (e.g., Masters in Social Work, Doctorate in Social Work); types of services provided (e.g., assertive community treatment); number of and type clients served (e.g., Medicaid, Medicare, veteran, immigrants); telehealth use (e.g., current or prior to COVID-19 outbreak); and career satisfaction and burnout (e.g., very satisfied, “I enjoy my work, I have no symptoms of burnout”).

The target population will be a random sample of 5,000 licensed clinical behavioral health providers (licensed psychologists, licensed clinical social workers, licensed marriage and family therapists, and licensed professional counselors) in states where email addresses are available with state licensure data.

The primary objectives of the surveys are to:

• Better understand factors associated with challenges in both recruitment and retention at behavioral health provider organizations.

• Estimate the workforce needed to better address gaps in care for mental health and substance use disorder.

• Obtain new insights on staffing models for treatment of serious mental illness, such as assertive community treatment.

• Collect new data on use of peer support specialists, care coordinators, and pharmacists in behavioral health care.

• Assess whether state licensure data is a reliable data source for building a comprehensive database on clinical behavioral health practitioners who are actively providing client services that require licensure.

Exhibit 1—Total Estimated Annualized Burden by Instrument
Type of participant activity | Number of participants | Responses per participant | Total responses | Hours per response | Total burden hours | Wage rate | Total hour cost
Employer Survey | 2,800 | 1 | 2,800 | .25 | 700 | $21.79 | $15,253
Provider Survey | 5,000 | 1 | 5,000 | .25 | 1,250 | 21.79 | 27,237.50
Total | 7,800 |  | 7,800 |  | 1,950 |  | 42,490.50

Send comments Carlos Graham, SAMHSA Reports Clearance Officer, 5600 Fishers Lane, Room 15E57-B, Rockville, Maryland 20857, OR email a copy to Carlos.Graham@samhsa.hhs.gov. Written comments should be received by March 1, 2021.

Carlos Graham,
Social Science Analyst.

[FR Doc. 2020-28921 Filed 12-30-20; 8:45 am]

BILLING CODE P